DEPARTMENT OF COMMERCE

National Oceanic and Atmospheric Administration

50 CFR Part 679

[Docket No. 0910131363-0087-02]

RIN 0648-XS44

Fisheries of the Exclusive Economic Zone Off Alaska; Bering Sea and Aleutian Islands; Final 2010 and 2011 Harvest Specifications for Groundfish

AGENCY: National Marine Fisheries Service (NMFS), National Oceanic and Atmospheric Administration (NOAA), Commerce.

ACTION: Final rule; closures.

SUMMARY: NMFS announces final 2010 and 2011 harvest specifications and prohibited species catch allowances for the groundfish fishery of the Bering Sea and Aleutian Islands management area (BSAI). This action is necessary to establish harvest limits for groundfish during the 2010 and 2011 fishing years, and to accomplish the goals and objectives of the Fishery Management Plan for Groundfish of the BSAI (FMP). The intended effect of this action is to conserve and manage the groundfish resources in the BSAI in accordance with the Magnuson-Stevens Fishery Conservation and Management Act (Magnuson-Stevens Act).

DATES: Effective from 1200 hrs, Alaska local time (A.l.t.), March 12, 2010, through 2400 hrs, A.l.t., December 31, 2011.

ADDRESSES: Electronic copies of the Final Alaska Groundfish Harvest Specifications Environmental Impact Statement (EIS), Record of Decision (ROD), Supplementary Information Report (SIR) to the EIS, and Final Regulatory Flexibility Analysis (FRFA) for this action may be obtained from http://alaskafisheries.noaa.gov. The 2009 Stock Assessment and Fishery Evaluation (SAFE) report for the groundfish resources of the BSAI dated November 2009, including discard mortality rates (DMR) for halibut, is available from the North Pacific Fishery Management Council's Web site at http://www.alaskafisheries.noaa.gov/npfmc.

FOR FURTHER INFORMATION CONTACT: Steve Whitney, 907-586-7269.

SUPPLEMENTARY INFORMATION: Federal regulations at 50 CFR part 679 implement the FMP and govern the groundfish fisheries in the BSAI. The North Pacific Fishery Management Council (Council) prepared the FMP, and NMFS approved it under the Magnuson-Stevens Act. General regulations governing U.S. fisheries also appear at 50 CFR part 600.

The FMP and its implementing regulations require NMFS, after consultation with the Council, to specify the total allowable catch (TAC) for each target species and for the “other species” category; the sum must be within the optimum yield (OY) range of 1.4 million to 2.0 million metric tons (mt) (see § 679.20(a)(1)(i)). NMFS also must specify apportionments of TACs, prohibited species catch (PSC) allowances, and prohibited species quota (PSQ) reserves established by § 679.21, seasonal allowances of pollock, Pacific cod, and Atka mackerel TAC; Amendment 80 allocations, and Community Development Quota (CDQ) reserve amounts established by § 679.20(b)(1)(ii). The final harvest specifications set forth in Tables 1 through 16 of this action satisfy these requirements. The sum of TACs is 1,677,154 mt for 2010 and is 1,996,558 mt for 2011.

Section 679.20(c)(3)(i) further requires NMFS to consider public comment on the proposed annual TACs (and apportionments thereof) and PSC allowances, and to publish final harvest specifications in the Federal Register. The proposed 2010 and 2011 harvest specifications and PSC allowances for the groundfish fishery of the BSAI were published in the Federal Register on December 2, 2009 (74 FR 63100). Comments were invited and accepted through January 4, 2010. NMFS received two letters with four comments on the proposed harvest specifications. These comments are summarized and responded to in the “Response to Comments” section of this rule. NMFS consulted with the Council on the final 2010 and 2011 harvest specifications during the December 2009 Council meeting in Anchorage, AK. After considering public comments, as well as biological and economic data that were available at the Council's December meeting, NMFS is implementing the final 2010 and 2011 harvest specifications as recommended by the Council.

Acceptable Biological Catch (ABC) and TAC Harvest Specifications

The final ABC levels are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier one represents the highest level of information quality available while tier six represents the lowest.

In December 2009, the Scientific and Statistical Committee (SSC), Advisory Panel (AP), and Council reviewed current biological information about the condition of the BSAI groundfish stocks. The Council's Plan Team compiled and presented this information in the 2009 SAFE report for the BSAI groundfish fisheries, dated November 2009. The SAFE report contains a review of the latest scientific analyses and estimates of each species' biomass and other biological parameters, as well as summaries of the available information on the BSAI ecosystem and the economic condition of groundfish fisheries off Alaska. The SAFE report is available for public review (see ADDRESSES). From these data and analyses, the Plan Team estimates an OFL and ABC for each species or species category.

In December 2009, the SSC, AP, and Council reviewed the Plan Team's recommendations. The SSC concurred with the Plan Team's recommendations, and the Council adopted the OFL and ABC amounts recommended by the SSC (Table 1). The final TAC recommendations were based on the ABCs as adjusted for other biological and socioeconomic considerations, including maintaining the sum of the TACs within the required OY range of 1.4 million to 2.0 million mt. The Council adopted the AP's 2010 and 2011 TAC recommendations. None of the Council's recommended TACs for 2010 or 2011 exceeds the final 2010 or 2011 ABCs for any species category. The final 2010 and 2011 harvest specifications approved by the Secretary are unchanged from those recommended by the Council and are consistent with the preferred harvest strategy alternative in the EIS (see ADDRESSES). NMFS finds that the Council's recommended OFLs, ABCs, and TACs are consistent with the biological condition of groundfish stocks as described in the 2009 SAFE report that was approved by the Council.

Other Actions Potentially Affecting the 2010 and 2011 Harvest Specifications

The Council is developing an amendment to the FMP to comply with Magnuson-Stevens Act requirements associated with annual catch limits and accountability measures. That amendment may result in revisions to how total annual groundfish mortality is estimated and accounted for in the annual SAFE reports, which in turn may affect the OFL, ABC, and TAC for certain groundfish species. NMFS will attempt to identify additional sources of mortality to groundfish stocks not currently reported or considered by the groundfish stock assessments in recommending OFL, ABC, and TAC for certain groundfish species. These additional sources of mortality may include recreational fishing, subsistence fishing, catch of groundfish during the NMFS trawl and hook-and-line surveys, catch taken under experimental fishing permits issued by NMFS, discarded catch of groundfish in the commercial halibut fisheries, use of groundfish as bait in the crab fisheries, or other sources of mortality not yet identified.

At its October 2009 meeting, the Council approved Amendment 95 to the FMP. This amendment would separate skates from the “other species” category so that individual OFLs, ABCs, and TACs may be established for skates. If the Secretary approves the amendment then the change would be in effect for the 2011 fishing year.

At its April 2009 meeting, the Council adopted Amendment 91 to the FMP. This amendment would establish new measures to minimize Chinook salmon bycatch in the Bering Sea pollock fisheries, including new Chinook salmon PSC limits that, when reached, would prohibit directed fishing for pollock. If approved, Amendment 91 could be effective by 2011.

Changes From the Proposed 2010 and 2011 Harvest Specifications in the BSAI

In October 2009, the Council made its recommendations for the proposed 2010 and 2011 harvest specifications (74 FR 63100, December 2, 2009) based largely on information contained in the 2008 SAFE report for the BSAI groundfish fisheries. The 2009 SAFE report, which was not available when the Council made its recommendations in October 2009, contains the best and most recent scientific information on the condition of the groundfish stocks. In December 2009, the Council considered the 2009 SAFE report in making its recommendations for the final 2010 and 2011 harvest specifications. Based on the 2009 SAFE report, the sum of the 2010 and 2011 recommended final TACs for the BSAI (1,677,154 mt for 2010, and 1,996,558 mt for 2011) are higher than the sums of the proposed 2010 and 2011 TACs (1,585,000 mt each year). Compared to the proposed 2010 TACs, the Council's final TAC recommendations increase for species when the best and most recent scientific analysis supports a larger TAC. These changes increase fishing opportunities for fishermen and add economic benefits to the nation. Increased TACs are specified for BSAI sablefish, BSAI Atka mackerel, yellowfin sole, rock sole, arrowtooth flounder, flathead sole, Alaska plaice, BSAI Pacific ocean perch, northern rockfish, and “other species.” The Council reduced TAC levels to provide greater protection for several species including Bering Sea subarea pollock, Pacific cod, Greenland turbot, and rougheye rockfish.

The largest TAC reduction was for Pacific cod. The 2010 BSAI Pacific cod ABC was reduced 25,000 mt, and the corresponding TAC was reduced 24,250. While the Plan Team's selected model incorporating the latest catch and survey data results in a lower ABC and TAC than the proposed rule, the SSC noted that both the 2006 and 2008 year class appear to be strong, which should create an increasing population and biomass in the near future. For 2011, the model produces an ABC 15,000 mt higher than the proposed ABC.

The SSC concurred with the Plan Team's model choice for Bering Sea pollock, which when incorporated with updated survey and catch data results in an ABC and TAC 2,000 mt lower than the proposed harvest specifications for 2010. While the SSC notes that there are legitimate concerns over the Bering Sea pollock stock, the 2006 and 2008 year classes appear to be strong and there are several precautionary aspects incorporated into the current stock assessment. The SSC also notes that while the current model produces a 295,000 mt higher Bering Sea pollock ABC and TAC for 2011, these numbers are provisional and will be greatly affected by next year's data collection and analysis.

The changes in the final rule from the proposed rule are based on the most recent scientific information and implement the harvest strategy described in the proposed rule for the harvest specifications. These changes are compared in the following table:

Comparison of Final 2010 and 2011 with Proposed 2010 and 2011 Total Allowable Catch in the BSAI
[Amounts are in metric tons]
Species | Area ¹ | 2010 final TAC | 2010 proposed TAC | 2010 difference from proposed | 2011 final TAC | 2011 proposed TAC | 2011 difference from proposed
Pollock | BS | 813,000 | 815,000 | −2,000 | 1,110,000 | 815,000 | 295,000
| AI | 19,000 | 19,000 | 0 | 19,000 | 19,000 | 0
| Bogoslof | 50 | 10 | 40 | 50 | 10 | 40
Pacific cod | BSAI | 168,780 | 193,030 | −24,250 | 207,580 | 193,030 | 14,550
Sablefish | BS | 2,790 | 2,520 | 270 | 2,500 | 2,520 | −20
| AI | 2,070 | 2,040 | 30 | 1,860 | 2,040 | −180
Atka mackerel | EAI/BS | 23,800 | 22,900 | 900 | 20,900 | 22,900 | −2,000
| CAI | 29,600 | 28,500 | 1,100 | 26,000 | 28,500 | −2,500
| WAI | 20,600 | 19,700 | 900 | 18,100 | 19,700 | −1,600
Yellowfin sole | BSAI | 219,000 | 180,000 | 39,000 | 213,000 | 180,000 | 33,000
Rock sole | BSAI | 90,000 | 75,000 | 15,000 | 90,000 | 75,000 | 15,000
Greenland turbot | BS | 4,220 | 4,920 | −700 | 3,700 | 4,920 | −1,220
| AI | 1,900 | 2,210 | −310 | 1,670 | 2,210 | −540
Arrowtooth flounder | BSAI | 75,000 | 60,000 | 15,000 | 75,000 | 60,000 | 15,000
Flathead sole | BSAI | 60,000 | 50,000 | 10,000 | 60,000 | 50,000 | 10,000
Other flatfish | BSAI | 17,300 | 17,400 | −100 | 17,300 | 17,400 | −100
Alaska plaice | BSAI | 50,000 | 30,000 | 20,000 | 50,000 | 30,000 | 20,000
Pacific ocean perch | BS | 3,830 | 3,780 | 50 | 3,790 | 3,780 | 10
| EAI | 4,220 | 4,160 | 60 | 4,180 | 4,160 | 20
| CAI | 4,270 | 4,210 | 60 | 4,230 | 4,210 | 20
| WAI | 6,540 | 6,450 | 90 | 6,480 | 6,450 | 30
Northern rockfish | BSAI | 7,240 | 6,000 | 1,240 | 7,290 | 6,000 | 1,290
Shortraker rockfish | BSAI | 387 | 387 | 0 | 387 | 387 | 0
Rougheye rockfish | BSAI | 547 | 552 | −5 | 531 | 552 | −21
Other rockfish | BS | 485 | 485 | 0 | 485 | 485 | 0
| AI | 555 | 555 | 0 | 555 | 555 | 0
Squid | BSAI | 1,970 | 1,970 | 0 | 1,970 | 1,970 | 0
Other species | BSAI | 50,000 | 34,221 | 15,779 | 50,000 | 34,221 | 15,779
Total | BSAI | 1,677,154 | 1,585,000 | 92,154 | 1,996,558 | 1,585,000 | 411,558
¹ Bering Sea subarea (BS), Aleutian Islands subarea (AI), Bering Sea and Aleutian Islands management area (BSAI), Eastern Aleutian District (EAI), Central Aleutian District (CAI), and Western Aleutian District (WAI).

The final 2010 and 2011 TAC recommendations for the BSAI are within the OY range established for the BSAI and do not exceed the ABC for any single species or complex. Table 1 lists the final 2010 and 2011 OFL, ABC, TAC, initial TAC (ITAC), and CDQ reserve amounts of the BSAI groundfish. The apportionment of TAC amounts among fisheries and seasons is discussed below.

As mentioned in the proposed 2010 and 2011 harvest specifications, NMFS is apportioning the amounts shown in Table 2 from the non-specified reserve to increase the ITAC of several target species.

Table 1—Final 2010 and 2011 Overfishing Level (OFL), Acceptable Biological Catch (ABC), Total Allowable Catch (TAC), Initial TAC (ITAC), and CDQ Reserve Allocation of Groundfish in the BSAI ¹
[Amounts are in metric tons]
Species | Area | 2010: OFL | 2010: ABC | 2010: TAC | 2010: ITAC ² | 2010: CDQ ³ | 2011: OFL | 2011: ABC | 2011: TAC | 2011: ITAC ² | 2011: CDQ ³
Pollock ³ | BS ² | 918,000 | 813,000 | 813,000 | 731,700 | 81,300 | 1,220,000 | 1,110,000 | 1,110,000 | 999,000 | 111,000
| AI ² | 40,000 | 33,100 | 19,000 | 17,100 | 1,900 | 39,100 | 32,200 | 19,000 | 17,100 | 1,900
| Bogoslof | 22,000 | 156 | 50 | 50 | 0 | 22,000 | 156 | 50 | 50 | 0
Pacific cod ⁴ | BSAI | 205,000 | 174,000 | 168,780 | 150,721 | 18,059 | 251,000 | 214,000 | 207,580 | 185,369 | 22,211
Sablefish ⁵ | BS | 3,310 | 2,790 | 2,790 | 2,302 | 384 | 2,970 | 2,500 | 2,500 | 1,063 | 94
| AI | 2,450 | 2,070 | 2,070 | 1,682 | 349 | 2,200 | 1,860 | 1,860 | 395 | 35
Atka mackerel | BSAI | 88,200 | 74,000 | 74,000 | 66,082 | 7,918 | 76,200 | 65,000 | 65,000 | 58,045 | 6,955
| EAI/BS | n/a | 23,800 | 23,800 | 21,253 | 2,547 | n/a | 20,900 | 20,900 | 18,664 | 2,236
| CAI | n/a | 29,600 | 29,600 | 26,433 | 3,167 | n/a | 26,000 | 26,000 | 23,218 | 2,782
| WAI | n/a | 20,600 | 20,600 | 18,396 | 2,204 | n/a | 18,100 | 18,100 | 16,163 | 1,937
Yellowfin sole | BSAI | 234,000 | 219,000 | 219,000 | 195,567 | 23,433 | 227,000 | 213,000 | 213,000 | 190,209 | 22,791
Rock sole | BSAI | 243,000 | 240,000 | 90,000 | 80,370 | 9,630 | 245,000 | 242,000 | 90,000 | 80,370 | 9,630
Greenland turbot | BSAI | 7,460 | 6,120 | 6,120 | 5,202 | n/a | 6,860 | 5,370 | 5,370 | 4,565 | n/a
| BS | n/a | 4,220 | 4,220 | 3,587 | 452 | n/a | 3,700 | 3,700 | 3,145 | 396
| AI | n/a | 1,900 | 1,900 | 1,615 | 0 | n/a | 1,670 | 1,670 | 1,420 | 0
Arrowtooth flounder | BSAI | 191,000 | 156,000 | 75,000 | 63,750 | 8,025 | 191,000 | 157,000 | 75,000 | 63,750 | 8,025
Flathead sole | BSAI | 83,100 | 69,200 | 60,000 | 53,580 | 6,420 | 81,800 | 68,100 | 60,000 | 53,580 | 6,420
Other flatfish ⁶ | BSAI | 23,000 | 17,300 | 17,300 | 14,705 | 0 | 23,000 | 17,300 | 17,300 | 14,705 | 0
Alaska plaice | BSAI | 278,000 | 224,000 | 50,000 | 42,500 | 0 | 314,000 | 248,000 | 50,000 | 42,500 | 0
Pacific ocean perch | BSAI | 22,400 | 18,860 | 18,860 | 16,677 | n/a | 22,200 | 18,680 | 18,680 | 16,518 | n/a
| BS | n/a | 3,830 | 3,830 | 3,256 | 0 | n/a | 3,790 | 3,790 | 3,222 | 0
| EAI | n/a | 4,220 | 4,220 | 3,768 | 452 | n/a | 4,180 | 4,180 | 3,733 | 447
| CAI | n/a | 4,270 | 4,270 | 3,813 | 457 | n/a | 4,230 | 4,230 | 3,777 | 453
| WAI | n/a | 6,540 | 6,540 | 5,840 | 700 | n/a | 6,480 | 6,480 | 5,787 | 693
Northern rockfish | BSAI | 8,640 | 7,240 | 7,240 | 6,154 | 0 | 8,700 | 7,290 | 7,290 | 6,197 | 0
Shortraker rockfish | BSAI | 516 | 387 | 387 | 329 | 0 | 516 | 387 | 387 | 329 | 0
Rougheye rockfish | BSAI | 669 | 547 | 547 | 465 | 0 | 650 | 531 | 531 | 451 | 0
Other rockfish ⁷ | BSAI | 1,380 | 1,040 | 1,040 | 884 | 0 | 1,380 | 1,040 | 1,040 | 884 | 0
| BS | n/a | 485 | 485 | 412 | 0 | n/a | 485 | 485 | 412 | 0
| AI | n/a | 555 | 555 | 472 | 0 | n/a | 555 | 555 | 472 | 0
Squid | BSAI | 2,620 | 1,970 | 1,970 | 1,675 | 0 | 2,620 | 1,970 | 1,970 | 1,675 | 0
Other species ⁸ | BSAI | 88,200 | 61,100 | 50,000 | 42,500 | 0 | 88,200 | 61,100 | 50,000 | 42,500 | 0
Total |  | 2,462,945 | 2,121,880 | 1,677,154 | 1,493,994 | 159,478 | 2,826,396 | 2,467,484 | 1,996,558 | 1,779,254 | 191,050
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ Under § 679.20(a)(5)(i)(A)(1), the annual BS subarea pollock TAC after subtracting first for the CDQ directed fishing allowance (10 percent) and second for the incidental catch allowance (4.0 percent), is further allocated by sector for a directed pollock fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (1,600 mt) is allocated to the Aleut Corporation for a directed pollock fishery.
⁴ The Pacific cod TAC is reduced by 3 percent from the ABC to account for the State of Alaska's (State) guideline harvest level in State waters of the Aleutian Islands subarea.
⁵ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” squid, and “other species” are not allocated to the CDQ program.
⁶ “Other flatfish” includes all flatfish species, except for halibut (a prohibited species), flathead sole, Greenland turbot, rock sole, yellowfin sole, arrowtooth flounder, and Alaska plaice.
⁷ “Other rockfish” includes all Sebastes and Sebastolobus species except for Pacific ocean perch, northern, dark, shortraker, and rougheye rockfish.
⁸ “Other species” includes sculpins, sharks, skates, and octopus. Forage fish, as defined at § 679.2, are not included in the “other species” category.

Reserves and the Incidental Catch Allowance (ICA) for Pollock, Atka Mackerel, Flathead Sole, Rock Sole, Yellowfin Sole, and Aleutian Islands Pacific Ocean Perch

Section 679.20(b)(1)(i) requires the placement of 15 percent of the TAC for each target species or “other species” category, except for pollock, the hook-and-line and pot gear allocation of sablefish, and the Amendment 80 species, in a non-specified reserve. Section 679.20(b)(1)(ii)(B) requires that 20 percent of the hook-and-line and pot gear allocation of sablefish be allocated to the fixed gear sablefish CDQ reserve. Section 679.20(b)(1)(ii)(D) requires allocation of 7.5 percent of the trawl gear allocations of sablefish and 10.7 percent of the Bering Sea Greenland turbot and arrowtooth flounder TACs to the respective CDQ reserves. Section 679.20(b)(1)(ii)(C) requires allocation of 10.7 percent of the TACs for Atka mackerel, Aleutian Islands Pacific ocean perch, yellowfin sole, rock sole, flathead sole, and Pacific cod be allocated to the CDQ reserves. Sections 679.20(a)(5)(i)(A) and 679.31(a) also require the allocation of 10 percent of the BSAI pollock TACs to the pollock CDQ directed fishing allowance (DFA). The entire Bogoslof District pollock TAC is allocated as an ICA (see § 679.20(a)(5)(ii)). With the exception of the hook-and-line and pot gear sablefish CDQ reserve, the regulations do not further apportion the CDQ allocations by gear. Sections 679.21(e)(3)(i)(A) and (e)(4)(i)(A) requires withholding 7.5 percent of the Chinook salmon PSC limit, 10.7 percent of the crab and non-Chinook salmon PSC limits, and 393 mt of halibut PSC as PSQ reserves for the CDQ fisheries. Sections 679.30 and 679.31 set forth regulations governing the management of the CDQ and PSQ reserves, respectively.

Pursuant to § 679.20(a)(5)(i)(A)(1), NMFS allocates a pollock ICA of 4 percent of the BS subarea pollock TAC after subtraction of the 10 percent CDQ reserve. This allowance is based on NMFS' examination of the pollock incidental catch, including the incidental catch by CDQ vessels, in target fisheries other than pollock from 1999 through 2009. During this 9-year period, the pollock incidental catch ranged from a low of 2.4 percent in 2006 to a high of 5 percent in 1999, with an 11-year average of 3.3 percent. Pursuant to § 679.20(a)(5)(iii)(B)(2)(i) and (ii), NMFS establishes a pollock ICA of 1,600 mt of the AI subarea TAC after subtraction of the 10 percent CDQ DFA. This allowance is based on NMFS' examination of the pollock incidental catch, including the incidental catch by CDQ vessels, in target fisheries other than pollock from 2003 through 2009. During this 7-year period, the incidental catch of pollock ranged from a low of 5 percent in 2006 to a high of 10 percent in 2003, with a 7-year average of 7 percent.

Pursuant to § 679.20(a)(8) and (10), NMFS allocates ICAs of 5,000 mt of flathead sole, 10,000 mt of rock sole, 2,000 mt of yellowfin sole, 50 mt of Western Aleutian District Pacific (WAI) ocean perch, 50 mt of Central Aleutian District (CAI) Pacific ocean perch, 100 mt of Eastern Aleutian District (EAI) Pacific ocean perch, 50 mt of WAI Atka mackerel, 75 mt of CAI Atka mackerel, and 75 mt of EAI and BS subarea Atka mackerel TAC after subtraction of the 10.7 percent CDQ reserve. These allowances are based on NMFS' examination of the incidental catch in other target fisheries from 2003 through 2009.

The regulations do not designate the remainder of the non-specified reserve by species or species group. Any amount of the reserve may be apportioned to a target species or to the “other species” category during the year, providing that such apportionments do not result in overfishing (see § 679.20(b)(1)(ii)). The Regional Administrator has determined that the ITACs specified for the species listed in Table 2 need to be supplemented from the non-specified reserve because U.S. fishing vessels have demonstrated the capacity to catch the full TAC allocations. Therefore, in accordance with § 679.20(b)(3), NMFS is apportioning the amounts shown in Table 2 from the non-specified reserve to increase the ITAC for northern rockfish, shortraker rockfish, rougheye rockfish, and Bering Sea “other rockfish” by 15 percent of the TAC in 2010 and 2011.

Table 2—Final 2010 and 2011 Apportionment of Reserves to ITAC Categories
[Amounts are in metric tons]
Species-area or subarea | 2010 ITAC | 2010 reserve amount | 2010 final ITAC | 2011 ITAC | 2011 reserve amount | 2011 final ITAC
Shortraker rockfish-BSAI | 329 | 58 | 387 | 329 | 58 | 387
Rougheye rockfish-BSAI | 465 | 82 | 547 | 451 | 80 | 531
Northern rockfish-BSAI | 6,154 | 1,086 | 7,240 | 6,196 | 1,094 | 7,290
Other rockfish-Bering Sea subarea | 412 | 73 | 485 | 412 | 73 | 485
Total | 7,360 | 1,299 | 8,659 | 7,388 | 1,305 | 8,693

Allocation of Pollock TAC Under the American Fisheries Act (AFA)

Section 679.20(a)(5)(i)(A) requires that the pollock TAC apportioned to the BS subarea, after subtraction of the 10 percent for the CDQ program and the 4 percent for the ICA, be allocated as a DFA as follows: 50 percent to the inshore sector, 40 percent to the catcher/processor sector, and 10 percent to the mothership sector. In the BS subarea, 40 percent of the DFA is allocated to the A season (January 20-June 10), and 60 percent of the DFA is allocated to the B season (June 10-November 1). The AI directed pollock fishery allocation to the Aleut Corporation is the amount of pollock remaining in the AI subarea after subtracting 1,900 mt for the CDQ DFA (10 percent) and 1,600 mt for the ICA. In the AI subarea, 40 percent of the DFA is allocated to the A season and the remainder of the directed pollock fishery is allocated to the B season. Table 3 lists these 2010 and 2011 amounts.

Section 679.20(a)(5)(i)(A)(4) also includes several specific requirements regarding BS pollock allocations. First, 8.5 percent of the pollock allocated to the catcher/processor sector will be available for harvest by AFA catcher vessels (CVs) with catcher/processor (CP) sector endorsements, unless the Regional Administrator receives a cooperative contract that provides for the distribution of harvest among AFA CPs and AFA CVs in a manner agreed to by all members. Second, AFA CPs not listed in the AFA are limited to harvesting not more than 0.5 percent of the pollock allocated to the catcher/processor sector. Table 3 lists the 2010 and 2011 allocations of pollock TAC. Tables 11 through 16 list the AFA CP and CV harvesting sideboard limits. The tables for the pollock allocations to the BS subarea inshore pollock cooperatives and open access sector will be posted on the Alaska Region Web site at http://www.alaskafisheries.noaa.gov.

Table 3 also lists seasonal apportionments of pollock and harvest limits within the Steller Sea Lion Conservation Area (SCA). The harvest within the SCA, as defined at § 679.22(a)(7)(vii), is limited to 28 percent of the annual DFA until 12 noon, April 1. The remaining 12 percent of the 40 percent annual DFA allocated to the A season may be taken outside the SCA before 12 noon, April 1 or inside the SCA after 12 noon, April 1. If less than 28 percent of the annual DFA is taken inside the SCA before 12 noon, April 1, the remainder will be available to be taken inside the SCA after 12 noon, April 1. The A season pollock SCA harvest limit will be apportioned to each sector in proportion to each sector's allocated percentage of the DFA. Table 3 lists these 2010 and 2011 amounts by sector.

Table 3—Final 2010 and 2011 Allocations of Pollock TACS to the Directed Pollock Fisheries and to the CDQ Directed Fishing Allowances (DFA) ¹
[Amounts are in metric tons]
Area and sector | 2010 allocations | 2010 A season ¹: A season DFA | 2010 A season ¹: SCA harvest limit ² | 2010 B season ¹: B season DFA | 2011 Allocations | 2011 A season ¹: A season DFA | 2011 A season ¹: SCA harvest limit ² | 2011 B season ¹: B season DFA
Bering Sea subarea | 813,000 | n/a | n/a | n/a | 1,110,000 | n/a | n/a | n/a
CDQ DFA | 81,300 | 32,520 | 22,764 | 48,780 | 111,000 | 44,400 | 31,080 | 66,600
ICA ¹ | 29,268 | n/a | n/a | n/a | 39,960 | n/a | n/a | n/a
AFA Inshore | 351,216 | 140,486 | 98,340 | 210,730 | 479,520 | 191,808 | 134,266 | 287,712
AFA Catcher/Processors ³ | 280,973 | 112,389 | 78,672 | 168,584 | 383,616 | 153,446 | 107,412 | 230,170
Catch by C/Ps | 257,090 | 102,836 | n/a | 154,254 | 351,009 | 140,403 | n/a | 210,605
Catch by CVs ³ | 23,883 | 9,553 | n/a | 14,330 | 32,607 | 13,043 | n/a | 19,564
Unlisted C/P Limit ⁴ | 1,405 | 562 | n/a | 843 | 1,918 | 767 | n/a | 1,151
AFA Motherships | 70,243 | 28,097 | 19,668 | 42,146 | 95,904 | 38,362 | 26,853 | 57,542
Excessive Harvesting Limit ⁵ | 122,926 | n/a | n/a | n/a | 167,832 | n/a | n/a | n/a
Excessive Processing Limit ⁶ | 210,730 | n/a | n/a | n/a | 287,712 | n/a | n/a | n/a
Total Bering Sea DFA | 702,432 | 280,973 | 196,681 | 421,459 | 959,040 | 383,616 | 268,531 | 575,424
Aleutian Islands subarea ¹ | 19,000 | n/a | n/a | n/a | 19,000 | n/a | n/a | n/a
CDQ DFA | 1,900 | 760 | n/a | 1,140 | 1,900 | 760 | n/a | 1,140
ICA | 1,600 | 800 | n/a | 800 | 1,600 | 800 | n/a | 800
Aleut Corporation | 15,500 | 15,500 | n/a | 0 | 15,500 | 15,500 | n/a | 0
Bogoslof District ICA ⁷ | 50 | n/a | n/a | n/a | 50 | n/a | n/a | n/a
¹ Pursuant to § 679.20(a)(5)(i)(A), the BS subarea pollock, after subtraction for the CDQ DFA (10 percent) and the ICA (4 percent), is allocated as a DFA as follows: inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i ) and ( ii), the annual AI pollock TAC, after subtracting first for the CDQ directed fishing allowance (10 percent) and second the ICA (1,600 mt), is allocated to the Aleut Corporation for a directed pollock fishery. In the AI subarea, the A season is allocated 40 percent of the ABC and the B season is allocated the remainder of the directed pollock fishery.
² In the BS subarea, no more than 28 percent of each sector's annual DFA may be taken from the SCA before 12:00 noon, April 1. The remaining 12 percent of the annual DFA allocated to the A season may be taken outside of the SCA before 12:00 noon, April 1 or inside the SCA after 12:00 noon, April 1. If less than 28 percent of the annual DFA is taken inside the SCA before 12:00 noon, April 1, the remainder will be available to be taken inside the SCA after 12:00 noon, April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii ), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ The Bogoslof District is closed by the final harvest specifications to directed fishing for pollock. The amounts specified are for ICA only and are not apportioned by season or sector.

Allocation of the Atka Mackerel TACs

Section 679.20(a)(8)(ii) allocates the Atka mackerel TACs to the Amendment 80 and BSAI trawl limited access sectors, after subtraction of the CDQ reserves, jig gear allocation, and ICAs for the BSAI trawl limited access sector and non-trawl gear (Table 4). The allocation of the ITAC for Atka mackerel to the Amendment 80 and BSAI trawl limited access sectors is established in Table 33 to part 679 and § 679.91.

Pursuant to § 679.20(a)(8)(i), up to 2 percent of the EAI and the BS Atka mackerel ITAC may be allocated to jig gear. The amount of this allocation is determined annually by the Council based on several criteria, including the anticipated harvest capacity of the jig gear fleet. The Council recommended, and NMFS approves, a 0.5 percent allocation of the Atka mackerel ITAC in the EAI and BS to the jig gear in 2010 and 2011. Based on the 2010 TAC of 23,800 mt after subtractions of the CDQ reserve and ICA, the jig gear allocation would be 106 mt for 2010. Based on the 2011 TAC of 20,900 mt after subtractions of the CDQ reserve and ICA, the jig gear allocation would be 93 mt for 2011.

Section 679.20(a)(8)(ii)(A) apportions the Atka mackerel ITAC into two equal seasonal allowances: The first seasonal allowance is made available for directed fishing from January 1 (January 20 for trawl gear) to April 15 (A season), and the second seasonal allowance is made available from September 1 to November 1 (B season). The jig gear allocation is not apportioned by season.

Pursuant to § 679.20(a)(8)(ii)(C)(1), the Regional Administrator will establish a harvest limit area (HLA) limit of no more than 60 percent of the seasonal TAC for the WAI and CAI Districts.

NMFS will establish HLA limits for the CDQ reserve and each of the three non-CDQ trawl sectors: The BSAI trawl limited access sector, the Amendment 80 limited access fishery, and an aggregate HLA limit applicable to all Amendment 80 cooperatives. NMFS will assign vessels in each of the three non-CDQ sectors that apply to fish for Atka mackerel in the HLA to an HLA fishery based on a random lottery of the vessels that apply (see § 679.20(a)(8)(iii)(B)(1)). There is no allocation of Atka mackerel to the BSAI trawl limited access sector in the WAI. Therefore, no vessels in the BSAI trawl limited access sector will be assigned to the WAI HLA fishery.

Each trawl sector will have a separate lottery. A maximum of two HLA fisheries will be established in Area 542 for the BSAI trawl limited access sector. A maximum of four HLA fisheries will be established for vessels assigned to Amendment 80 cooperatives: a first and second HLA fishery in Area 542, and a first and second HLA fishery in Area 543. A maximum of four HLA fisheries will be established for vessels assigned to the Amendment 80 limited access fishery: A first and second HLA fishery in Area 542, and a first and second HLA fishery in Area 543. NMFS will initially open fishing in the HLA for the first HLA fishery in all three trawl sectors at the same time. The initial opening of fishing in the HLA will be based on the first directed fishing closure of Atka mackerel for the EAI and BS subarea for any one of the three trawl sectors allocated Atka mackerel TAC.

Table 4 lists these 2010 and 2011 amounts. The 2011 allocations for Atka mackerel between Amendment 80 cooperatives and the Amendment 80 limited access sector will not be known until eligible participants apply for participation in the program by November 1, 2010.

Table 4—Final 2010 and 2011 Seasonal and Spatial Allowances, Gear Shares, CDQ Reserve, Incidental Catch Allowance, and Amendment 80 Allocations of THE BSAI ATKA Mackerel TAC
[Amounts are in metric tons]
Sector ¹ | Season ² ³ ⁴ | 2010 allocation by area: Eastern Aleutian District/Bering Sea | 2010 allocation by area: Central Aleutian District | 2010 allocation by area: Western Aleutian District | 2011 allocation by area: Eastern Aleutian District/Bering Sea | 2011 allocation by area: Central Aleutian District | 2011 allocation by area: Western Aleutian District
TAC | n/a | 23,800 | 29,600 | 20,600 | 20,900 | 26,000 | 18,100
CDQ reserve | Total | 2,547 | 3,167 | 2,204 | 2,236 | 2,782 | 1,937
| HLA ⁵ | n/a | 1,900 | 1,323 | n/a | 1,669 | 1,162
ICA | Total | 75 | 75 | 50 | 75 | 75 | 50
Jig ⁶ | Total | 106 | 0 | 0 | 93 | 0 | 0
BSAI trawl limited access | Total | 1,264 | 1,581 | 0 | 1,480 | 1,851 | 0
| A | 632 | 791 | 0 | 740 | 926 | 0
| HLA ⁵ | n/a | 474 | 0 | n/a | 555 | 0
| B | 632 | 791 | 0 | 740 | 926 | 0
| HLA ⁵ | n/a | 474 | 0 | n/a | 555 | 0
Amendment 80 sectors | Total | 19,808 | 24,776 | 18,346 | 17,016 | 21,292 | 16,113
| A | 9,904 | 12,388 | 9,173 | 8,508 | 10,646 | 8,057
| HLA ⁵ | n/a | 7,433 | 5,504 | n/a | 6,387 | 4,834
| B | 9,904 | 12,388 | 9,173 | 8,508 | 10,646 | 8,057
| HLA ⁵ | n/a | 7,433 | 5,504 | n/a | 6,387 | 4,834
Amendment 80 limited access | Total | 10,526 | 14,913 | 11,310 | n/a | n/a | n/a
| A | 5,263 | 7,457 | 5,655 | n/a | n/a | n/a
| HLA ⁵ | n/a | 4,474 | 3,393 | n/a | n/a | n/a
| B | 5,263 | 7,457 | 5,655 | n/a | n/a | n/a
| HLA ⁵ | n/a | 4,474 | 3,393 | n/a | n/a | n/a
Amendment 80 cooperatives | Total | 9,282 | 9,863 | 7,036 | n/a | n/a | n/a
| A | 4,641 | 4,932 | 3,518 | n/a | n/a | n/a
| HLA ⁵ | n/a | 2,959 | 2,111 | n/a | n/a | n/a
| B | 4,641 | 4,932 | 3,518 | n/a | n/a | n/a
| HLA ⁵ | n/a | 2,959 | 2,111 | n/a | n/a | n/a
¹ Section 679.20(a)(8)(ii) allocates to the Amendment 80 and BSAI trawl limited access sectors the Atka mackerel TACs, after subtraction of the CDQ reserves, jig gear allocation, and ICAs. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery.
³ The seasonal allowances of Atka mackerel are 50 percent in the A season and 50 percent in the B season.
⁴ The A season is January 1 (January 20 for trawl gear) to April 15 and the B season is September 1 to November 1.
⁵ Harvest Limit Area (HLA) limit refers to the amount of each seasonal allowance that is available for fishing inside the HLA (see § 679.2). In the Central and Western Aleutian Districts, 60 percent of each seasonal allowance is available for fishing inside the HLA.
⁶ Section 679.20(a)(8)(i) requires that up to 2 percent of the Eastern Aleutian District and the Bering Sea subarea TAC be allocated to jig gear after subtraction of the CDQ reserve and ICA. The amount of this allocation is 0.5 percent. The jig gear allocation is not apportioned by season.

Allocation of the Pacific Cod ITAC

Section 679.20(a)(7)(i) and (ii) allocates the Pacific cod TAC in the BSAI, after subtraction of 10.7 percent for the CDQ reserve, as follows: 1.4 percent to vessels using jig gear, 2.0 percent to hook-and-line and pot CVs less than 60 ft (18.3 m) length overall (LOA), 0.2 percent to hook-and-line CVs greater than or equal to 60 ft (18.3 m) LOA, 48.7 percent to hook-and-line catcher/processors, 8.4 percent to pot CVs greater than or equal to 60 ft (18.3 m) LOA, 1.5 percent to pot catcher/processors, 2.3 percent to AFA trawl catcher/processors, 13.4 percent to non-AFA trawl catcher/processors, and 22.1 percent to trawl CVs. The ICA for the hook-and-line and pot sectors will be deducted from the aggregate portion of Pacific cod TAC allocated to the hook-and-line and pot sectors. For 2010 and 2011, the Regional Administrator establishes an ICA of 500 mt based on anticipated incidental catch by these sectors in other fisheries. The allocation of the ITAC for Pacific cod to the Amendment 80 sector is established in Table 33 to part 679 and § 679.91. The 2011 allocations for Pacific cod between Amendment 80 cooperatives and the Amendment 80 limited access sector will not be known until eligible participants apply for participation in the program by November 1, 2010.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

The CDQ and non-CDQ season allowances by gear based on the 2010 and 2011 Pacific cod TACs are listed in Tables 5a and 5b based on the sector allocation percentages of Pacific cod set forth at §§ 679.20(a)(7)(i)(B) and 679.20(a)(7)(iv)(A); and the seasonal allowances of Pacific cod set forth at § 679.23(e)(5).

Table 5a—Final 2010 Gear Shares and Seasonal Allowances of the BSAI Pacific Cod TAC
[Amounts are in metric tons]
Gear sector | Percent | 2010 share of gear sector total | 2010 share of sector total | 2010 seasonal apportionment: Dates | 2010 seasonal apportionment: Amount
Total TAC | 100 | 168,780 | n/a | n/a | n/a
CDQ | 10.7 | 18,059 | n/a | see § 679.20(a)(7)(i)(B) | n/a
Total hook-and-line/pot gear | 60.8 | 91,638 | n/a | n/a | n/a
Hook-and-line/pot ICA¹ | n/a | 500 | n/a | see § 679.20(a)(7)(ii)(B) | n/a
Hook-and-line/pot sub-total | n/a | 91,138 | n/a | n/a | n/a
Hook-and-line catcher/processor | 48.7 | n/a | 73,000 | Jan 1-Jun 10 Jun 10-Dec 31 | 37,230 35,770
Hook-and-line catcher vessel ≥ 60 ft LOA | 0.2 | n/a | 300 | Jan 1-Jun 10 Jun 10-Dec 31 | 153 147
Pot catcher/processor | 1.5 | n/a | 2,248 | Jan 1-Jun 10 Sept 1-Dec 31 | 1,147 1,102
Pot catcher vessel ≥ 60 ft LOA | 8.4 | n/a | 12,591 | Jan 1-Jun 10 Sept 1-Dec 31 | 6,422 6,170
Catcher vessel < 60 ft LOA using hook-and-line or pot gear | 2 | n/a | 2,998 | n/a | n/a
Trawl catcher vessel | 22.1 | 33,309 | n/a | Jan 20-Apr 1 Apr 1-Jun 10 Jun 10-Nov 1 | 24,649 3,664 4,996
AFA trawl catcher/processor | 2.3 | 3,467 | n/a | Jan 20-Apr 1 Apr 1-Jun 10 Jun 10-Nov 1 | 2,600 867 0
Amendment 80 | 13.4 | 20,197 | n/a | Jan 20-Apr 1 Apr 1-Jun 10 Jun 10-Nov 1 | 15,147 5,049 0
Amendment 80 limited access | n/a | n/a | 3,319 | Jan 20-Apr 1 Apr 1-Jun 10 Jun 10-Nov 1 | 2,489 830 0
Amendment 80 cooperatives | n/a | n/a | 16,878 | Jan 20-Apr 1 Apr 1-Jun 10 Jun 10-Nov 1 | 12,658 4,219 0
Jig | 1.4 | 2,110 | n/a | Jan 1-Apr 30 Apr 30-Aug 31 Aug 31-Dec 31 | 1,266 422 422
¹ The ICA for the hook-and-line and pot sectors will be deducted from the aggregate portion of Pacific cod TAC allocated to the hook-and-line and pot sectors. The Regional Administrator approves an ICA of 500 mt for 2010 based on anticipated incidental catch in these fisheries.

Table 5b—Final 2011 Gear Shares and Seasonal Allowances of the BSAI Pacific Cod Tac
[Amounts are in metric tons]
Gear sector | Percent | 2011 share of gear sector total | 2011 share of sector total | 2011 seasonal apportionment ²: Dates | 2011 seasonal apportionment ²: Amount
Total TAC | 100 | 207,580 | n/a | n/a | n/a
CDQ | 10.7 | 22,211 | n/a | see § 679.20(a)(7)(i)(B) | n/a
Total hook-and-line/pot gear | 60.8 | 112,704 | n/a | n/a | n/a
Hook-and-line/pot ICA ¹ | n/a | 500 | n/a | see § 679.20(a)(7)(ii)(B) | n/a
Hook-and-line/pot sub-total | n/a | 112,204 | n/a | n/a | n/a
Hook-and-line catcher/processor | 48.7 | n/a | 89,874 | Jan 1-Jun 10 Jun 10-Dec 31 | 45,836 44,038
Hook-and-line catcher vessel ≥ 60 ft LOA | 0.2 | n/a | 369 | Jan 1-Jun 10 Jun 10-Dec 31 | 188 181
Pot catcher/processor | 1.5 | n/a | 2,768 | Jan 1-Jun 10 Sept 1-Dec 31 | 1,412 1,356
Pot catcher vessel ≥ 60 ft LOA | 8.4 | n/a | 15,502 | Jan 1-Jun 10 Sept 1-Dec 31 | 7,906 7,596
Catcher vessel < 60 ft LOA using hook-and-line or pot gear | 2 | n/a | 3,691 | n/a | n/a
Trawl catcher vessel | 22.1 | 40,967 | n/a | Jan 20-Apr 1 | 30,315
|  |  |  | Apr 1-Jun 10 | 4,506
|  |  |  | Jun 10-Nov 1 | 6,145
AFA trawl catcher/processor | 2.3 | 4,263 | n/a | Jan 20-Apr 1 | 3,198
|  |  |  | Apr 1-Jun 10 | 1,066
|  |  |  | Jun 10-Nov 1 | 0
Amendment 80 | 13.4 | 24,839 | n/a | Jan 20-Apr 1 | 18,630
|  |  |  | Apr 1-Jun 10 | 6,210
|  |  |  | Jun 10-Nov 1 | 0
Amendment 80 limited access ² | n/a | n/a | see footnote 2 | Jan 20-Apr 1 | 75%
|  |  |  | Apr 1-Jun 10 | 25%
|  |  |  | Jun 10-Nov 1 | 0
Amendment 80 cooperatives ² | n/a | n/a | see footnote 2 | Jan 20-Apr 1 | 75%
|  |  |  | Apr 1-Jun 10 | 25%
|  |  |  | Jun 10-Nov 1 | 0
Jig | 1.4 | 2,595 | n/a | Jan 1-Apr 30 | 1,557
|  |  |  | Apr 30-Aug 31 | 519
|  |  |  | Aug 31-Dec 31 | 519
¹ The ICA for the hook-and-line and pot sectors will be deducted from the aggregate portion of Pacific cod TAC allocated to the hook-and-line and pot sectors. The Regional Administrator approves an ICA of 500 mt for 2011 based on anticipated incidental catch in these fisheries.
² The 2011 allocations for Amendment 80 species between Amendment 80 cooperatives and the Amendment 80 limited access sector will not be known until eligible participants apply for participation in the program by November 1, 2010.

Sablefish Gear Allocation

Sections 679.20(a)(4)(iii) and (iv) require the allocation of sablefish TACs for the BS and AI subareas between trawl and hook-and-line or pot gear. Gear allocations of the TACs for the BS subarea are 50 percent for trawl gear and 50 percent for hook-and-line or pot gear. Gear allocations of the TACs for the AI subarea are 25 percent for trawl gear and 75 percent for hook-and-line or pot gear. Section 679.20(b)(1)(ii)(B) requires apportionment of 20 percent of the hook-and-line and pot gear allocation of sablefish to the CDQ reserve. Additionally, § 679.20(b)(1)(ii)(D) requires apportionment of 7.5 percent of the trawl gear allocation of sablefish from the nonspecified reserves, established under § 679.20(b)(1)(i), to the CDQ reserve. The Council recommended that only trawl sablefish TAC be established biennially. The harvest specifications for the hook-and-line gear and pot gear sablefish Individual Fishing Quota (IFQ) fisheries will be limited to the 2010 fishing year to ensure those fisheries are conducted concurrently with the halibut IFQ fishery. Concurrent sablefish and halibut IFQ fisheries reduce the potential for discards of halibut and sablefish in those fisheries. The sablefish IFQ fisheries will remain closed at the beginning of each fishing year until the final specifications for the sablefish IFQ fisheries are in effect. Table 6 lists the 2010 and 2011 gear allocations of the sablefish TAC and CDQ reserve amounts.

Table 6—Final 2010 and 2011 Gear Shares and CDQ Reserve of BSAI Sablefish TACS
[Amounts are in metric tons]
Subarea and gear | Percent of TAC | 2010 Share of TAC | 2010 ITAC | 2010 CDQ reserve | 2011 Share of TAC | 2011 ITAC | 2011 CDQ reserve
Bering Sea
Trawl ¹ | 50 | 1,395 | 1,186 | 105 | 1,250 | 1,063 | 94
Hook-and-line/pot gear ² | 50 | 1,395 | 1,116 | 279 | n/a | n/a | n/a
Total | 100 | 2,790 | 2,302 | 384 | 1,250 | 1,063 | 94
Aleutian Islands
Trawl ¹ | 25 | 518 | 440 | 39 | 465 | 395 | 35
Hook-and-line/pot gear ² | 75 | 1,552 | 1,242 | 310 | n/a | n/a | n/a
Total | 100 | 2,070 | 1,682 | 349 | 465 | 395 | 35
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. The Council recommended that specifications for the hook-and-line gear sablefish IFQ fisheries be limited to one year.

Allocation of the AI Pacific Ocean Perch, and BSAI Flathead Sole, Rock Sole, and Yellowfin Sole TACs

Sections 679.20(a)(10)(i) and (ii) require the allocation between the Amendment 80 sector and BSAI trawl limited access sector for AI Pacific ocean perch, and BSAI flathead sole, rock sole, and yellowfin sole TACs, after subtraction of 10.7 percent for the CDQ reserve and an ICA for the BSAI trawl limited access sector and vessels using non-trawl gear. The allocation of the ITAC for AI Pacific ocean perch, and BSAI flathead sole, rock sole, and yellowfin sole to the Amendment 80 sector is established in Tables 33 and 34 to part 679 and § 679.91. The 2011 allocations for Amendment 80 species between Amendment 80 cooperatives and limited access sector will not be known until eligible participants apply for participation in the program by November 1, 2010. Tables 7a and 7b lists the 2010 and 2011 allocations of the AI Pacific ocean perch, and BSAI flathead sole, rock sole, and yellowfin sole TACs.

Table 7a—Final 2010 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 4,220 | 4,270 | 6,540 | 60,000 | 90,000 | 219,000
CDQ | 452 | 457 | 700 | 6,420 | 9,630 | 23,433
ICA | 100 | 50 | 50 | 5,000 | 10,000 | 2,000
BSAI trawl limited access | 367 | 376 | 116 | 0 | 0 | 42,369
Amendment 80 | 3,302 | 3,387 | 5,674 | 48,580 | 70,370 | 151,198
Amendment 80 limited access | 1,751 | 1,796 | 3,009 | 5,708 | 17,507 | 60,465
Amendment 80 cooperatives | 1,551 | 1,591 | 2,666 | 42,872 | 52,863 | 90,733

Table 7b—Final 2011 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 4,180 | 4,230 | 6,480 | 60,000 | 90,000 | 213,000
CDQ | 447 | 453 | 693 | 6,420 | 9,630 | 22,791
ICA | 100 | 50 | 50 | 5,000 | 10,000 | 2,000
BSAI trawl limited access | 363 | 373 | 115 | 0 | 0 | 39,154
Amendment 80 | 3,269 | 3,355 | 5,622 | 48,580 | 70,370 | 147,983
Amendment 80 limited access ¹ | n/a | n/a | n/a | n/a | n/a | n/a
Amendment 80 cooperatives ¹ | n/a | n/a | n/a | n/a | n/a | n/a
¹ The 2011 allocations for Amendment 80 species between Amendment 80 cooperatives and the Amendment 80 limited access sector will not be known until eligible participants apply for participation in the program by November 1, 2010.

Allocation of PSC Limits for Halibut, Salmon, Crab, and Herring

Section 679.21(e) sets forth the BSAI PSC limits. Pursuant to § 679.21(e)(1)(iv) and (e)(2), the 2010 and 2011 BSAI halibut mortality limits are 3,675 mt for trawl fisheries and 900 mt for the non-trawl fisheries. Sections 679.21(e)(3)(i)(A)(2) and (e)(4)(i)(A) allocate 326 mt of the trawl halibut mortality limit and 7.5 percent, or 67 mt, of the non-trawl halibut mortality limit as the PSQ reserve for use by the groundfish CDQ program. Section 679.21(e)(1)(vi) specifies 29,000 fish as the 2010 and 2011 Chinook salmon PSC limit for the BS subarea pollock fishery. Section 679.21(e)(3)(i)(A)(3)(i) allocates 7.5 percent, or 2,175 Chinook salmon, as the PSQ reserve for the CDQ program and allocates the remaining 26,825 Chinook salmon to the non-CDQ fisheries. Section 679.21(e)(1)(viii) specifies 700 fish as the 2010 and 2011 Chinook salmon PSC limit for the AI subarea pollock fishery. Section 679.21(e)(3)(i)(A)(3)(i) allocates 7.5 percent, or 53 Chinook salmon, as the AI subarea PSQ for the CDQ program and allocates the remaining 647 Chinook salmon to the non-CDQ fisheries. Section 679.21(e)(1)(vii) specifies 42,000 fish as the 2010 and 2011 non-Chinook salmon PSC limit. Section 679.21(e)(3)(i)(A)(3)(ii) allocates 10.7 percent, or 4,494 non-Chinook salmon, as the PSQ for the CDQ program and allocates the remaining 37,506 non-Chinook salmon to the non-CDQ fisheries. The regulations and allocations of Chinook salmon are subject to change in 2011 pending approval of Amendment 91 to the FMP.

PSC limits for crab and herring are specified annually based on abundance and spawning biomass. Pursuant to § 679.21(e)(3)(i)(A)(1), 10.7 percent from each trawl gear PSC limit specified for crab is allocated from as a PSQ reserve for use by the groundfish CDQ program.

The red king crab mature female abundance is estimated from the 2009 survey data at 36.1 million red king crabs (http://www.afsc.noaa.gov/Publications/AFSC-TM/NOAA-TM-AFSC-201.pdf, Table 3.), and the effective spawning biomass is estimated at 70.4 million lb (http://www.cf.adfg.state.ak.us/region4/shellfsh/crabs/news_rel/2009/nr090930a.pdf). Based on the criteria set out at § 679.21(e)(1)(i), the 2010 and 2011 PSC limit of red king crab in Zone 1 for trawl gear is 197,000 animals. This limit derives from the mature female abundance of more than 8.4 million king crab and the effective spawning biomass estimate of more than 55 million lb (24,948 mt).

Section 679.21(e)(3)(ii)(B)(2) establishes criteria under which NMFS must specify an annual red king crab bycatch limit for the Red King Crab Savings Subarea (RKCSS). The regulations limit the RKCSS to up to 25 percent of the red king crab PSC limit based on the need to optimize the groundfish harvest relative to red king crab bycatch. In December 2009, the Council recommended, and NMFS approves, that the red king crab bycatch limit be equal to 25 percent of the red king crab PSC limit within the RKCSS (Table 8b).

Based on 2009 survey data, Tanner crab (Chionoecetes bairdi) abundance is estimated at 346 million animals. Given the criteria set out at § 679.21(e)(1)(ii), the calculated 2010 and 2011 C. bairdi crab PSC limit for trawl gear is 830,000 animals in Zone 1 and 2,520,000 animals in Zone 2. These limits are derived from the C. bairdi crab abundance estimate being in excess of the 270 million animals for the Zone 1 allocation and 290 million animals for the Zone 2 allocation, but less than 400 million animals for both Zone allocations. These limits are specified in § 679.21(e)(1)(ii).

Pursuant to § 679.21(e)(1)(iii), the PSC limit for snow crab (C. opilio) is based on total abundance as indicated by the NMFS annual bottom trawl survey. The C. opilio crab PSC limit is set at 0.1133 percent of the BS abundance index if left unadjusted. However, if the abundance is less than 4.5 million animals, the minimum PSC limit will be 4,350,000 animals pursuant to § 679.21(e)(1)(iii)(A) and (B). Based on the 2009 survey estimate of 3.06 billion animals, the calculated limit is 4,350,000 animals.

Pursuant to § 679.21(e)(1)(v), the PSC limit of Pacific herring caught while conducting any trawl operation for BSAI groundfish is 1 percent of the annual eastern BS herring biomass. The best estimate of 2010 and 2011 herring biomass is 197,400 mt. This amount was derived using 2009 survey data and an age-structured biomass projection model developed by the Alaska Department of Fish and Game. Therefore, the herring PSC limit for 2010 and 2011 is 1,974 mt for all trawl gear as presented in Tables 8a and b.

Section 679.21(e)(3)(A) requires PSQ reserves to be subtracted from the total trawl PSC limits. The amounts of 2010 PSC limits assigned to the Amendment 80 and BSAI trawl limited access sectors are specified in Table 35 to part 679. The resulting allocation of PSC to CDQ PSQ, the Amendment 80 sector, and the BSAI trawl limited access fisheries are listed in Table 8a. Pursuant to § 679.21(e)(1)(iv) and § 679.91(d) through (f), crab and halibut trawl PSC assigned to the Amendment 80 sector is then sub-allocated to Amendment 80 cooperatives as PSC cooperative quota (CQ) and to the Amendment 80 limited access fishery as presented in Tables 8d and 8e. PSC CQ assigned to Amendment 80 cooperatives is not allocated to specific fishery categories. The 2011 PSC allocations between Amendment 80 cooperatives and the Amendment 80 limited access sector will not be known until eligible participants apply for participation in the program by November 1, 2010. Section 679.21(e)(3)(i)(B) requires the apportionment of each trawl PSC limit not assigned to Amendment 80 cooperatives into PSC bycatch allowances for seven specified fishery categories.

Section 679.21(e)(4)(i) authorizes the apportionment of the non-trawl halibut PSC limit into PSC bycatch allowances among six fishery categories. Table 8c lists the fishery bycatch allowances for the trawl and non-trawl fisheries.

Pursuant to section 3.6 of the BSAI FMP, the Council recommends and NMFS agrees, that certain specified non-trawl fisheries be exempt from the halibut PSC limit. As in past years after consultation with the Council, NMFS exempts pot gear, jig gear, and the sablefish IFQ hook-and-line gear fishery categories from halibut bycatch restrictions because (1) the pot gear fisheries have low halibut bycatch mortality, (2) halibut mortality for the jig gear fleet is assumed to be negligible because of the small size of the fishery and the selectivity of the gear, and (3) the sablefish and halibut IFQ fisheries have low halibut bycatch mortality because the IFQ program requires legal-size halibut to be retained by vessels using hook-and-line gear if a halibut IFQ permit holder or a hired master is aboard and is holding unused halibut IFQ (subpart D of 50 CFR part 679). In 2009, total groundfish catch for the pot gear fishery in the BSAI was approximately 16,160 mt, with an associated halibut bycatch mortality of about 1.3 mt. The 2009 jig gear fishery harvested about 44 mt of groundfish. Most vessels in the jig gear fleet are less than 60 ft (18.3 m) LOA and thus are exempt from observer coverage requirements. As a result, observer data are not available on halibut bycatch in the jig gear fishery. However, a negligible amount of halibut bycatch mortality is assumed because of the selective nature of jig gear and the low mortality rate of halibut caught with jig gear and released.

Section 679.21(e)(5) authorizes NMFS, after consultation with the Council, to establish seasonal apportionments of PSC amounts for the BSAI trawl limited access and Amendment 80 limited access sectors in order to maximize the ability of the fleet to harvest the available groundfish TAC and to minimize bycatch. The factors to be considered are (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The Council recommended and NMFS approves the seasonal PSC apportionments in Tables 8c and 8e to maximize harvest among gear types, fisheries, and seasons while minimizing bycatch of PSC based on the above criteria.

Table 8a—Final 2010 and 2011 Apportionment of Prohibited Species Catch Allowances to Non-Trawl Gear, the EDQ Program, Amendment 80, and the BSAI Trawl Limited Access Sectors
PSC species | Total non-trawl PSC | Non-trawl PSC remaining after CDQ PSQ ¹ | Total trawl PSC | Trawl PSC remaining after CDQ PSQ ¹ | CDQ PSQ reserve ¹ | Amendment 80 sector: 2010 | Amendment 80 sector: 2011 | BSAI trawl limited access fishery
Halibut mortality (mt) BSAI | 900 | 832 | 3,675 | 3,349 | 393 | 2,425 | 2,375 | 875
Herring (mt) BSAI | n/a | n/a | 1,974 | n/a | n/a | n/a | n/a | n/a
Red king crab (animals) Zone 1 ¹ | n/a | n/a | 197,000 | 175,921 | 21,079 | 98,920 | 93,432 | 53,797
C. opilio (animals) COBLZ ² | n/a | n/a | 4,350,000 | 3,884,550 | 465,450 | 2,148,156 | 2,028,512 | 1,248,494
C. bairdi crab (animals) Zone 1 ² | n/a | n/a | 830,000 | 741,190 | 88,810 | 351,176 | 331,608 | 348,285
C. bairdi crab (animals) Zone 2 | n/a | n/a | 2,520,000 | 2,250,360 | 269,640 | 599,271 | 565,966 | 1,053,394
¹ Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
² Refer to § 679.2 for definitions of zones.

Table 8b—Final 2010 and 2011 Herring and Red King Crab Savings Subarea Prohibited Species Catch Allowances for all Trawl Sectors
Fishery categories | Herring (mt) BSAI | Red king crab (animals) Zone 1
Yellowfin sole | 169 | n/a
Rock sole/flathead sole/other flatfish ¹ | 29 | n/a
Turbot/arrowtooth/sablefish ² | 14 | n/a
Rockfish | 10 | n/a
Pacific cod | 29 | n/a
Midwater trawl pollock | 1,508 | n/a
Pollock/Atka mackerel/other species ² | 214 | n/a
Red king crab savings subarea non-pelagic trawl gear ³ | n/a | 49,250
Total trawl PSC | 1,974 | 197,000
¹ “Other flatfish” for PSC monitoring includes all flatfish species, except for halibut (a prohibited species), flathead sole, Greenland turbot, rock sole, yellowfin sole, and arrowtooth flounder.
² Pollock other than pelagic trawl pollock, Atka mackerel, and “other species” fishery category.
³ In December 2009 the Council recommended that the red king crab bycatch limit for non-pelagic trawl fisheries within the RKCSS be limited to 25 percent of the red king crab PSC allowance (see § 679.21(e)(3)(ii)(B)(2)).

Table 8c—Final 2010 and 2011 Prohibited Species Bycatch Allowances for the BSAI Trawl Limited Access Sector and Non-Trawl Fisheries
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 47,397 | 1,176,494 | 293,234 | 1,005,879
Rock sole/flathead sole/other flatfish ² | 0 | 0 | 0 | 0 | 0
Turbot/arrow tooth/sablefish ³ | 0 | 0 | 0 | 0 | 0
Rockfish April 15-December 31 | 5 | 0 | 2,000 | 0 | 848
Pacific cod | 453 | 6,000 | 50,000 | 50,816 | 42,424
Pollock/Atka mackerel/other species | 250 | 400 | 20,000 | 4,235 | 4,242
Total BSAI trawl limited access PSC | 875 | 53,797 | 1,248,494 | 348,285 | 1,053,394

Non-trawl fisheries | Catcher | Catcher
| processor | vessel
Pacific cod-Total | 760 | 15
January 1-June 10 | 314 | 10
June 10-August 15 | 0 | 3
August 15-December 31 | 446 | 2
Other non-trawl-Total | 58
May 1-December 31 | 58
Groundfish pot and jig | Exempt
Sablefish hook-and-line | Exempt
Total non-trawl PSC | 833
¹ Refer to § 679.2 for definitions of areas.
² “Other flatfish” for PSC monitoring includes all flatfish species, except for halibut (a prohibited species), flathead sole, Greenland turbot, rock sole, yellowfin sole, and arrowtooth flounder.
³ Greenland turbot, arrowtooth flounder, and sablefish fishery category.

Table 8d—Final 2010 Prohibited Species Bycatch Allowance for the BSAI Amendment 80 Cooperatives
Year | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
2010 | 1,754 | 70,237 | 1,461,309 | 257,715 | 440,277
¹ Refer to § 679.2 for definitions of zones.

Table 8e—Final 2010 Prohibited Species Bycatch Allowances for the BSAI Amendment 80 Limited Access Fisheries
Amendment 80 limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 440 | 9,690 | 633,544 | 51,561 | 128,794
Jan 20—Jul 1 | 293 | 9,500 | 617,709 | 46,515 | 102,242
Jul 1—Dec 31 | 147 | 190 | 15,835 | 5,046 | 26,552
Rock sole/other flat/flathead sole ² | 139 | 18,947 | 53,203 | 41,799 | 30,099
Jan 20—Apr 1 | 108 | 18,685 | 51,204 | 37,500 | 27,000
Apr 1—Jul 1 | 16 | 130 | 1,000 | 2,150 | 1,550
July 1—Dec 31 | 15 | 132 | 999 | 2,149 | 1,549
Turbot/arrowtooth/sablefish ³ | 6 | 45 | 100 | 100 | 100
Rockfish | 45 | n/a | n/a | n/a | n/a
Pacific cod | 1 | 1 | 1 | 1 | 1
Pollock/Atka mackerel/other species ⁴ | 40 | 0 | 0 | 0 | 0
Total Amendment 80 trawl limited access PSC | 671 | 28,683 | 686,848 | 93,461 | 158,994
¹ Refer to § 679.2 for definitions of areas.
² “Other flatfish” for PSC monitoring includes all flatfish species, except for halibut (a prohibited species), flathead sole, Greenland turbot, rock sole, yellowfin sole, and arrowtooth flounder.
³ Greenland turbot, arrowtooth flounder, and sablefish fishery category.
⁴ Pollock other than pelagic trawl pollock, Atka mackerel, and “other species” fishery category. “Other species” for PSC monitoring includes sculpins, sharks, skates, and octopus.

Halibut DMRs

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS approves the halibut DMRs developed and recommended by the International Pacific Halibut Commission (IPHC) and the Council for the 2010 and 2011 BSAI groundfish fisheries for use in monitoring the 2010 and 2011 halibut bycatch allowances (see Tables 8a-e). The IPHC developed these DMRs for the 2010 and 2011 BSAI fisheries using the 10-year mean DMRs for those fisheries. The IPHC will analyze observer data annually and recommend changes to the DMRs when a fishery DMR shows large variation from the mean. The document justifying these DMRs is available in Appendix 2 in the final 2009 SAFE report dated November 2009 (see ADDRESSES). Table 9 lists the 2010 and 2011 DMRs.

Table 9—Final 2010 and 2011 Pacific Halibut Discard Mortality Rates for the BSAI
Gear | Fishery | Halibut discard mortality rate (percent)
Non-CDQ hook-and-line | Greenland turbot | 11
| Other species | 10
| Pacific cod | 10
| Rockfish | 9
Non-CDQ trawl | Arrowtooth flounder | 76
| Atka mackerel | 76
| Flathead sole | 74
| Greenland turbot | 67
| Non-pelagic pollock | 73
| Pelagic pollock | 89
| Other flatfish | 72
| Other species | 71
| Pacific cod | 71
| Rockfish | 81
| Rock sole | 82
| Sablefish | 75
| Yellowfin sole | 81
Non-CDQ Pot | Other species | 8
| Pacific cod | 8
CDQ trawl | Atka mackerel | 85
| Greenland turbot | 88
| Flathead sole | 84
| Non-pelagic pollock | 85
| Pacific cod | 90
| Pelagic pollock | 90
| Rockfish | 84
| Rock sole | 87
| Yellowfin sole | 85
CDQ hook-and-line | Greenland turbot | 4
| Pacific cod | 10
CDQ pot | Pacific cod | 8
| Sablefish | 32

Directed Fishing Closures

In accordance with § 679.20(d)(1)(i), the Regional Administrator may establish a DFA for a species or species group if the Regional Administrator determines that any allocation or apportionment of a target species or “other species” category has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab, or C. opilio crab for a specified area has been reached, the Regional Administrator will prohibit directed fishing for each species in that category in the specified area.

Based upon historic catch patterns and anticipated fishing activity, the Regional Administrator has determined that the groundfish allocation amounts in Table 10 will be necessary as incidental catch to support other anticipated groundfish fisheries for the 2010 and 2011 fishing years. Consequently, in accordance with § 679.20(d)(1)(i), the Regional Administrator establishes the DFA for the species and species groups in Table 10 as zero. Therefore, in accordance with § 679.20(d)(1)(iii), NMFS is prohibiting directed fishing for these sectors and species in the specified areas effective at 1200 hrs, A.l.t., March 11, 2010, through 2400 hrs, A.l.t., December 31, 2011. Also, for the BSAI trawl limited access and the Amendment 80 limited access sectors, bycatch allowances of halibut, red king crab, C. bairdi crab, and C. opilio crab listed in Table 10 are insufficient to support directed fisheries. Therefore, in accordance with § 679.21(e)(7), NMFS is prohibiting directed fishing for these sectors and fishery categories in the specified areas effective at 1200 hrs, A.l.t., March 11, 2010, through 2400 hrs, A.l.t., December 31, 2011.

Table 10—2010 and 2011 Directed Fishing Closures ¹
[Groundfish and halibut amounts are in metric tons. Crab amounts are in number of animals]
Area | Sector | Species | 2010 Incidental catch allowance | 2011 Incidental catch allowance
Bogoslof District | All | Pollock | 50 | 50
Aleutian Islands subarea | All | ICA pollock | 1,600 | 1,600
|  | “Other rockfish” | 472 | 472
Eastern Aleutian District/Bering Sea | Non-amendment 80 and BSAI trawl limited access | ICA Atka mackerel | 75 | 75
|  | ICA Pacific ocean perch | 100 | 100
Central Aleutian District/Bering Sea | Non-amendment 80 and BSAI trawl limited access | ICA Atka mackerel | 75 | 75
|  | ICA Pacific ocean perch | 50 | 50
Western Aleutian District/Bering Sea | Non-amendment 80 and BSAI trawl limited access | ICA Atka mackerel | 50 | 50
|  | ICA Pacific ocean perch | 50 | 50
Bering Sea subarea | All | Pacific ocean perch | 3,256 | 3,222
|  | “Other rockfish” | 485 | 485
|  | ICA pollock | 29,268 | 39,960
Bering Sea and Aleutian Islands | All | Northern rockfish | 7,240 | 7,290
|  | Shortraker rockfish | 387 | 387
|  | Rougheye rockfish | 547 | 531
|  | “Other species” | 42,500 | 42,500
| Hook-and-line and pot gear | ICA Pacific cod | 500 | 500
| Non-amendment 80 | ICA flathead sole | 5,000 | 5,000
|  | ICA rock sole | 10,000 | 10,000
| Non-amendment 80 and BSAI trawl limited access | ICA yellowfin sole | 2,000 | 2,000
| BSAI trawl limited access | Rock sole/flathead sole/other flatfish—halibut mortality, red king crab zone 1, C. opilio COBLZ, C. bairdi Zone 1 and 2 | 0 | 0
|  | Turbot/arrowtooth/sablefish—halibut mortality, red king crab zone 1, C. opilio COBLZ, C. bairdi Zone 1 and 2 | 0 | 0
|  | Rockfish—red king crab zone 1 | 0 | 0
| Amendment 80 limited access | Rockfish—red king crab zone 1, C. opilio COBLZ, C. bairdi Zone 1 and 2 | 0 | n/a
|  | Pacific cod—halibut mortality, red king crab zone 1, C. opilio COBLZ, C. bairdi Zone 1 and 2 | 1 | n/a
|  | Pollock/Atka mackerel/other species—red king crab zone 1, C. opilio COBLZ, C. bairdi Zone 1 and 2 | 0 | n/a
¹ Maximum retainable amounts may be found in Table 11 to 50 CFR part 679.

Closures implemented under the 2009 and 2010 BSAI harvest specifications for groundfish (74 FR 7359, February 17, 2009) remain effective under authority of these final 2010 and 2011 harvest specifications, and are posted at the following Web sites: http://alaskafisheries.noaa.gov/index/infobulletins/infobulletins.asp?Yr=2010, and http://alaskafisheries.noaa.gov/2010/status.htm. While these closures are in effect, the maximum retainable amounts at § 679.20(e) and (f) apply at any time during a fishing trip. These closures to directed fishing are in addition to closures and prohibitions found in regulations at 50 CFR part 679.

Central Gulf of Alaska Rockfish Pilot Program (Rockfish Program)

On June 6, 2005, the Council adopted the Rockfish Program to meet the requirements of Section 802 of the Consolidated Appropriations Act of 2004 (Pub. L. 108-199). The basis for the BSAI fishing prohibitions and the CV BSAI Pacific cod sideboard limits of the Rockfish Program are discussed in detail in the final rule to Amendment 68 to the Fishery Management Plan for Groundfish of the Gulf of Alaska (71 FR 67210, November 20, 2006). Pursuant to § 679.82(d)(6)(i), the CV BSAI Pacific cod sideboard limit is 0.0 mt. Therefore, in accordance with § 679.82(d)(7)(ii), NMFS is prohibiting directed fishing for BSAI Pacific cod in July for CVs under the Rockfish Program sideboard limitations.

Listed AFA Catcher/Processor Sideboard Limits

Pursuant to § 679.64(a), the Regional Administrator is responsible for restricting the ability of listed AFA catcher/processors to engage in directed fishing for groundfish species other than pollock to protect participants in other groundfish fisheries from adverse effects resulting from the AFA and from fishery cooperatives in the directed pollock fishery. The basis for these sideboard limits is described in detail in the final rules implementing the major provisions of the AFA (67 FR 79692, December 30, 2002) and Amendment 80 (72 FR 52668, September 14, 2007). Table 11 lists the 2010 and 2011 catcher/processor sideboard limits.

All harvest of groundfish sideboard species by listed AFA catcher/processors, whether as targeted catch or incidental catch, will be deducted from the sideboard limits in Table 11. However, groundfish sideboard species that are delivered to listed catcher/processors by CVs will not be deducted from the 2010 and 2011 sideboard limits for the listed AFA catcher/processors.

Table 11—Final 2010 and 2011 Listed BSAI American Fisheries Act Catcher/Processor Groundfish Sideboard Limits
[Amounts are in metric tons]
Target species | Area | 1995-1997: Retained catch | 1995-1997: Total catch | 1995-1997: Ratio of retained catch to total catch | 2010 ITAC available to trawl C/Ps ¹ | 2010 AFA C/P side-board limit | 2011 ITAC available to trawl C/Ps ¹ | 2011 AFA C/P side-board limit
Sablefish trawl | BS | 8 | 497 | 0.016 | 1,186 | 19 | 1,063 | 17
| AI | 0 | 145 | 0 | 440 | 0 | 395 | 0
Atka mackerel | Central AI
| A season ² | n/a | n/a | 0.115 | 13,217 | 1,520 | 11,609 | 1,335
| HLA limit ³ | n/a | n/a | n/a | 7,930 | 912 | 6,965 | 801
| B season ² | n/a | n/a | 0.115 | 13,217 | 1,520 | 11,609 | 1,335
| HLA limit ³ | n/a | n/a | n/a | 7,930 | 912 | 6,965 | 801
| Western AI
| A season ² | n/a | n/a | 0.2 | 9,198 | 1,840 | 8,082 | 1,616
| HLA limit ³ | n/a | n/a | n/a | 5,519 | 1,104 | 4,849 | 970
| B season ² | n/a | n/a | 0.2 | 9,198 | 1,840 | 8,082 | 1,616
| HLA limit³ | n/a | n/a | n/a | 5,519 | 1,104 | 4,849 | 970
Yellowfin sole ⁴ | BSAI | 100,192 | 435,788 | 0.23 | 195,567 | n/a | 190,209 | n/a
Rock sole | BSAI | 6,317 | 169,362 | 0.037 | 80,370 | 2,974 | 80,370 | 2,974
Greenland turbot | BS | 121 | 17,305 | 0.007 | 3,587 | 25 | 3,145 | 22
| AI | 23 | 4,987 | 0.005 | 1,615 | 8 | 1,420 | 7
Arrowtooth flounder | BSAI | 76 | 33,987 | 0.002 | 63,750 | 128 | 63,750 | 128
Flathead sole | BSAI | 1,925 | 52,755 | 0.036 | 53,580 | 1,929 | 53,580 | 1,929
Alaska plaice | BSAI | 14 | 9,438 | 0.001 | 42,500 | 43 | 42,500 | 43
Other flatfish | BSAI | 3,058 | 52,298 | 0.058 | 14,705 | 853 | 14,705 | 853
Pacific ocean perch | BS | 12 | 4,879 | 0.002 | 3,256 | 7 | 3,222 | 6
| Eastern AI | 125 | 6,179 | 0.02 | 3,768 | 75 | 3,733 | 75
| Central AI | 3 | 5,698 | 0.001 | 3,813 | 4 | 3,777 | 4
| Western AI | 54 | 13,598 | 0.004 | 5,840 | 23 | 5,787 | 23
Northern rockfish | BSAI | 91 | 13,040 | 0.007 | 7,240 | 51 | 7,290 | 51
Shortraker rockfish | BSAI | 50 | 2,811 | 0.018 | 387 | 7 | 387 | 7
Rougheye rockfish | BSAI | 50 | 2,811 | 0.018 | 547 | 10 | 531 | 10
Other rockfish | BS | 18 | 621 | 0.029 | 485 | 14 | 485 | 14
| AI | 22 | 806 | 0.027 | 472 | 13 | 472 | 13
Squid | BSAI | 73 | 3,328 | 0.022 | 1,675 | 37 | 1,675 | 37
Other species | BSAI | 553 | 68,672 | 0.008 | 42,500 | 340 | 42,500 | 340
¹ Aleutian Islands Pacific ocean perch, and BSAI Atka mackerel, flathead sole, rock sole, yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
³ Harvest Limit Area (HLA) limit refers to the amount of each seasonal allowance that is available for fishing inside the HLA (see § 679.2). In 2010 and 2011, 60 percent of each seasonal allowance is available for fishing inside the HLA in the Western and Central Aleutian Districts.
⁴ Section 679.64(a)(1)(v) exempts AFA catcher/processors from a yellowfin sole sideboard limit because the 2010 and 2011 aggregate ITAC of yellowfin sole assigned to the Amendment 80 sector and BSAI trawl limited access sector (195,567 mt in 2010 and 190,209 mt in 2011) is greater than 125,000 mt.

Section 679.64(a)(2)—and Tables 40 and 41 of part 679—establish a formula for calculating PSC sideboard limits for listed AFA catcher/processors. The basis for these sideboard limits is described in detail in the final rules implementing the major provisions of the AFA (67 FR 79692, December 30, 2002) and Amendment 80 (72 FR 52668, September 14, 2007).

PSC species listed in Table 12 that are caught by listed AFA catcher/processors participating in any groundfish fishery other than pollock will accrue against the 2010 and 2011 PSC sideboard limits for the listed AFA catcher/processors. Section 679.21(e)(3)(v) authorizes NMFS to close directed fishing for groundfish other than pollock for listed AFA catcher/processors once a 2010 or 2011 PSC sideboard limit listed in Table 12 is reached.

Crab or halibut PSC caught by listed AFA catcher/processors while fishing for pollock will accrue against the bycatch allowances annually specified for either the midwater pollock or the pollock/Atka mackerel/“other species” fishery categories under regulations at § 679.21(e)(3)(iv).

Table 12—Final 2010 and 2011 BSAI AFA Listed Catcher/Processor Prohibited Species Sideboard Limits
PSC species and area ¹ | Ratio of PSC catch to total PSC | 2010 and 2011 PSC available to trawl vessels after subtraction of PSQ ² | 2010 and 2011 C/P sideboard limit ²
Halibut mortality BSAI | n/a | n/a | 286
Red king crab zone 1 | 0.007 | 175,921 | 1,231
C. opilio (COBLZ) | 0.153 | 3,884,550 | 594,336
C. bairdi:
Zone 1 | 0.14 | 741,190 | 103,767
Zone 2 | 0.05 | 2,250,360 | 112,518
¹ Refer to § 679.2 for definitions of areas.
² Halibut amounts are in metric tons of halibut mortality. Crab amounts are in numbers of animals.

AFA CV Sideboard Limits

Pursuant to § 679.64(a), the Regional Administrator is responsible for restricting the ability of AFA CV to engage in directed fishing for groundfish species other than pollock to protect participants in other groundfish fisheries from adverse effects resulting from the AFA and from fishery cooperatives in the directed pollock fishery. Section 679.64(b) establishes a formula for setting AFA CV groundfish and PSC sideboard limits for the BSAI. The basis for these sideboard limits is described in detail in the final rules implementing the major provisions of the AFA (67 FR 79692, December 30, 2002) and Amendment 80 (72 FR 52668, September 14, 2007). Tables 13 and 14 list the 2010 and 2011 AFA CV sideboard limits.

All catch of groundfish sideboard species made by non-exempt AFA CVs, whether as targeted catch or incidental catch, will be deducted from the 2010 and 2011 sideboard limits listed in Table 13.

Table 13—Final 2010 and 2011 American Fisheries Act Catcher Vessel BSAI Groundfish Sideboard Limits
[Amounts are in metric tons]
Species | Fishery by area/gear/season | Ratio of 1995-1997 AFA CV catch to 1995-1997 TAC | 2010 initial TAC ¹ | 2010 AFA catcher vessel sideboard limits | 2011 initial TAC ¹ | 2011 AFA catcher vessel sideboard limits
Pacific cod | BSAI
| Jig gear | 0 | 2,110 | 0 | 2,595 | 0
| Hook-and-line CV | n/a | n/a | n/a | n/a | n/a
| Jan 1-Jun 10 | 0.0006 | 153 | 0 | 188 | 0
| Jun 10-Dec 31 | 0.0006 | 147 | 0 | 181 | 0
| Pot gear CV | n/a | n/a | n/a | n/a | n/a
| Jan 1-Jun 10 | 0.0006 | 6,422 | 4 | 7,906 | 5
| Sept 1-Dec 31 | 0.0006 | 6,170 | 4 | 7,596 | 5
| CV < 60 feet LOA using hook-and-line or pot gear | 0.0006 | 2,998 | 2 | 3,691 | 2
| Trawl gear CV
| Jan 20-Apr 1 | 0.8609 | 24,649 | 21,220 | 30,315 | 26,098
| Apr 1-Jun 10 | 0.8609 | 3,664 | 3,154 | 4,506 | 3,879
| Jun 10-Nov 1 | 0.8609 | 4,996 | 4,301 | 6,145 | 5,290
Sablefish | BS trawl gear | 0.0906 | 1,186 | 107 | 1,063 | 96
| AI trawl gear | 0.0645 | 440 | 28 | 395 | 25
Atka mackerel | Eastern AI/BS
| Jan 1-Apr 15 | 0.0032 | 10,627 | 34 | 9,332 | 30
| Sept 1-Nov 1 | 0.0032 | 10,627 | 34 | 9,332 | 30
| Central AI
| Jan-Apr 15 | 0.0001 | 13,217 | 1 | 11,609 | 1
| HLA limit | 0.0001 | 7,930 | 1 | 6,965 | 1
| Sept 1-Nov 1 | 0.0001 | 13,217 | 1 | 11,609 | 1
| HLA limit | 0.0001 | 7,930 | 1 | 6,965 | 1
| Western AI
| Jan-Apr 15 | 0 | 9,198 | 0 | 8,082 | 0
| HLA limit | n/a | 5,519 | 0 | 4,849 | 0
| Sept 1-Nov 1 | 0 | 9,198 | 0 | 8,082 | 0
| HLA limit | n/a | 5,519 | 0 | 4,849 | 0
Yellowfin sole ² | BSAI | 0.0647 | 195,567 | n/a | 190,209 | n/a
Rock sole | BSAI | 0.0341 | 80,370 | 2,741 | 80,370 | 2,741
Greenland turbot | BS | 0.0645 | 3,587 | 231 | 3,145 | 203
| AI | 0.0205 | 1,615 | 33 | 1,420 | 29
Arrowtooth flounder | BSAI | 0.069 | 63,750 | 4,399 | 63,750 | 4,399
Alaska plaice | BSAI | 0.0441 | 42,500 | 1,874 | 42,500 | 1,874
Other flatfish | BSAI | 0.0441 | 14,705 | 648 | 14,705 | 648
Pacific ocean perch | BS | 0.1 | 3,256 | 326 | 3,222 | 322
| Eastern AI | 0.0077 | 3,768 | 29 | 3,733 | 29
| Central AI | 0.0025 | 3,813 | 10 | 3,777 | 9
| Western AI | 0 | 5,840 | 0 | 5,787 | 0
Northern rockfish | BSAI | 0.0084 | 7,240 | 61 | 7,290 | 61
Shortraker rockfish | BSAI | 0.0037 | 387 | 1 | 387 | 1
Rougheye rockfish | BSAI | 0.0037 | 465 | 2 | 451 | 2
Other rockfish | BS | 0.0048 | 485 | 2 | 485 | 2
| AI | 0.0095 | 472 | 4 | 472 | 4
Squid | BSAI | 0.3827 | 1,675 | 641 | 1,675 | 641
Other species | BSAI | 0.0541 | 42,500 | 2,299 | 42,500 | 2,299
Flathead sole | BS trawl gear | 0.0505 | 53,580 | 2,706 | 53,580 | 2,706
¹ Aleutians Islands Pacific ocean perch, and BSAI Atka mackerel, flathead sole, rock sole, yellowfin sole, are multiplied by the remainder of the TAC of that species after the subtraction of the CDQ reserve under § 679.20(b)(1)(ii)(C).
² Section 679.64(b)(6) exempts AFA catcher vessels from a yellowfin sole sideboard limit because the 2010 and 2011 aggregate ITAC of yellowfin sole assigned to the Amendment 80 sector and BSAI trawl limited access sector (195,567 mt in 2010 and 190,209 mt in 2011) is greater than 125,000 mt.

Halibut and crab PSC limits listed in Table 14 that are caught by AFA CVs participating in any groundfish fishery for groundfish other than pollock will accrue against the 2010 and 2011 PSC sideboard limits for the AFA CVs. Sections 679.21(d)(8) and 679.21 (e)(3)(v) authorize NMFS to close directed fishing for groundfish other than pollock for AFA CVs once a 2010 or 2011 PSC sideboard limit listed in Table 14 is reached. The PSC that is caught by AFA CVs while fishing for pollock in the BSAI will accrue against the bycatch allowances annually specified for either the midwater pollock or the pollock/Atka mackerel/“other species” fishery categories under regulations at § 679.21(e)(3)(iv).

Table 14—Final 2010 and 2011 American Fisheries Act Catcher Vessel Prohibited Species Catch Sideboard Limits for the BSAI ¹
PSC species | Target fishery category ² | AFA catcher vessel PSC sideboard limit ratio | 2010 and 2011 PSC limit after subtraction of PSQ reserves | 2010 and 2011 AFA catcher vessel PSC sideboard limit
Halibut | Pacific cod trawl | n/a | n/a | 887
| Pacific cod hook-and-line or pot | n/a | n/a | 2
| Yellowfin sole total | n/a | n/a | 101
| Rock sole/flathead sole/other flatfish total ³ | n/a | n/a | 228
| Turbot/arrowtooth/sablefish | n/a | n/a | 0
| Rockfish | n/a | n/a | 2
| Pollock/Atka mackerel/other species | n/a | n/a | 5
Red king crab Zone 1 ⁴ | n/a | 0.299 | 175,921 | 52,600
C. opilio COBLZ ⁴ | n/a | 0.168 | 3,884,550 | 652,604
C. bairdi Zone 1 ⁴ | n/a | 0.33 | 741,190 | 244,593
C. bairdi Zone 2 ⁴ | n/a | 0.186 | 2,250,360 | 418,567
¹ Halibut amounts are in metric tons of halibut mortality. Crab amounts are in numbers of animals.
² Target fishery categories are defined in regulation at § 679.21(e)(3)(iv).
³ “Other flatfish” for PSC monitoring includes all flatfish species, except for halibut (a prohibited species), flathead sole, Greenland turbot, rock sole, yellowfin sole, and arrowtooth flounder.
⁴ Refer to § 679.2 for definitions of areas.

AFA CP and CV Sideboard Directed Fishing Closures

Based upon historical catch patterns, the Regional Administrator has determined that many of the AFA CP and CV sideboard limits listed in Tables 15 and 16 are necessary as incidental catch to support other anticipated groundfish fisheries for the 2010 fishing year. In accordance with § 679.20(d)(1)(iv), the Regional Administrator establishes the sideboard limits listed in Tables 15 and 16 as DFAs. Because many of these DFAs will be reached before the end of the year, the Regional Administrator has determined, in accordance with § 679.20(d)(1)(iii), that NMFS prohibit directed fishing by listed AFA catcher/processors for the species in the specified areas set out in Table 15 and directed fishing by non-exempt AFA CVs for the species in the specified areas set out in Table 16.

Table 15—Final 2010 and 2011 American Fisheries Act Listed Catcher/Processor Sideboard Directed Fishing Closures ¹
[Amounts are in metric tons]
Species | Area | Gear types | 2010 sideboard limit | 2011 sideboard limit
Sablefish trawl | BS | trawl | 19 | 17
| AI | trawl | 0 | 0
Rock sole | BSAI | all | 2,974 | 2,974
Greenland turbot | BS | all | 25 | 22
| AI | all | 8 | 7
Arrowtooth flounder | BSAI | all | 128 | 128
Flathead sole | BSAI | all | 1,929 | 1,929
Pacific ocean perch | BS | all | 7 | 6
| Eastern AI | all | 75 | 75
| Central AI | all | 4 | 4
| Western AI | all | 23 | 23
Northern rockfish | BSAI | all | 51 | 51
Shortraker rockfish | BSAI | all | 7 | 7
Rougheye rockfish | BSAI | all | 10 | 10
Other rockfish | BS | all | 14 | 14
| AI | all | 13 | 13
Squid | BSAI | all | 37 | 37
“Other species” | BSAI | all | 340 | 340
¹ Maximum retainable amounts may be found in Table 11 to 50 CFR part 679.

Table 16—Final 2010 and 2011 American Fisheries Act Catcher Vessel Sideboard Directed Fishing Closures ¹
[Amounts are in metric tons]
Species | Area | Gear types | 2010 sideboard limit | 2011 sideboard limit
Pacific cod | BSAI | hook-and-line | 300 | 369
| BSAI | pot | 10 | 12
| BSAI | jig | 0 | 0
Sablefish | BS | trawl | 107 | 96
| AI | trawl | 28 | 25
Atka mackerel | Eastern AI/BS | all | 68 | 60
| Central AI | all | 2 | 2
| Western AI | all | 0 | 0
Greenland turbot | BS | all | 231 | 203
| AI | all | 33 | 29
Arrowtooth flounder | BSAI | all | 4,399 | 4,399
Flathead sole | BSAI | all | 2,706 | 2,706
Rock sole | BSAI | all | 2,741 | 2,741
Pacific ocean perch | BS | all | 326 | 322
| Eastern AI | all | 29 | 29
| Central AI | all | 10 | 9
| Western AI | all | 0 | 0
Northern rockfish | BSAI | all | 61 | 61
Shortraker rockfish | BSAI | all | 1 | 1
Rougheye rockfish | BSAI | all | 2 | 2
Other rockfish | BS | all | 2 | 2
| AI | all | 4 | 4
Squid | BSAI | all | 641 | 641
“Other species” | BSAI | all | 2,299 | 2,299
¹ Maximum retainable amounts may be found in Table 11 to 50 CFR part 679.

Response to Comments

NMFS received two letters of comment, from an environmental organization and an individual, which included four distinct comments, in response to the proposed 2010 and 2011 harvest specifications. These comments are summarized and responded to below.

Comment 1: The commenter raises general concerns about NMFS' management of fisheries, asserting that fishery policies have not benefited American citizens. The commenter also asserts that NMFS does not enforce fisheries regulations and should not be allowed to manage commercial fisheries.

Response: This comment is not specifically related to the proposed rule. The comment recommends broad changes to fisheries management and provides opinions of the Federal Government's general management of marine resources that are outside of the scope of this action. The comment did not raise new relevant issues or concerns that have not been explained in the preamble to the proposed rule or addressed in the SAFE reports and other analyses prepared to support the BSAI groundfish harvest specifications.

Comment 2: The comment asserts that the groundfish quotas are too high.

Response: The harvest specifications process is intended to foster conservation and management of marine resources. This process incorporates the best available scientific information from the most recent stock assessment and fisheries evaluation reports prepared by multi-disciplinary teams of scientists. Such reports contain the most recent scientific information on the condition of various groundfish stocks, as well as the condition of other ecosystem components and economic data about Alaska groundfish fisheries. This suite of information allows the Council to make scientifically-based recommendations for annual catch limits that do not exceed, on a species by species basis, the OFLs and ABCs established for each BSAI target species managed under the FMP.

Comment 3: Overfishing is having a detrimental effect on the health of oceans and coastal communities.

Response: This comment does not specially address the proposed 2010 and 2011 harvest specifications for the BSAI. None of the species encompassed by these harvest specifications are overfished or subject to overfishing.

Comment 4: The decline of pollock stocks is having a detrimental impact on marine mammals.

Response: The most recent pollock stock surveys indicate that BSAI pollock stocks in this management area are not overfished and are unlikely to be overfished in the near future. The BS stock is expected to increase as recent cohorts mature and enter the fishery. Furthermore, the EIS (see ADDRESSES) prepared for the Alaska groundfish fisheries newest specifications process identified a preferred harvest strategy for groundfish and concluded that the preferred harvest strategy, under existing regulations, would have no lasting adverse impacts on marine mammals and other marine life. Additionally, pursuant to the Endangered Species Act, NMFS consults to ensure that federal actions, including this one, do not jeopardize the continued existence of any endangered or threatened marine mammal species.

Classification

NMFS has determined that these final harvest specifications are consistent with the FMP and with the Magnuson-Stevens Act and other applicable laws.

This action is authorized under 50 CFR 679.20 and is exempt from review under Executive Order 12866.

NMFS prepared a Final EIS for this action (see ADDRESSES) and made it available to the public on January 12, 2007 (72 FR 1512). On February 13, 2007, NMFS issued the ROD for the Final EIS. In January 2010, NMFS prepared a Supplemental Information Report (SIR) for this action. Copies of the Final EIS, ROD, and SIR for this action are available from NMFS (see ADDRESSES). The Final EIS analyzes the environmental consequences of the groundfish harvest specifications and alternative harvest strategies on resources in the action area. The SIR evaluates the need to prepare a Supplemental EIS (SEIS) for the 2010 and 2011 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Administrator, Alaska Region, has determined that (1) approval of the 2010 and 2011 harvest specifications, which were set according to the preferred harvest strategy in the Final EIS, do not constitute a change in the action; and (2) there are no significant new circumstances or information relevant to environmental concerns and bearing on the action or its impacts. Additionally, the 2010 and 2011 harvest specifications will result in environmental impacts within the scope of those analyzed and disclosed in the Final EIS. Therefore, supplemental National Environmental Protection Act (NEPA) documentation is not necessary to implement the 2010 and 2011 harvest specifications.

The proposed harvest specifications were published in the Federal Register on December 2, 2009 (74 FR 63100). An Initial Regulatory Flexibility Analysis (IRFA) was prepared to evaluate the impacts on small entities of alternative harvest strategies for the groundfish fisheries in the Exclusive Economic Zone (EEZ) off Alaska on small entities. The public comment period ended on January 4, 2010. No comments were received regarding the IRFA or the economic impacts of this action. A FRFA was prepared pursuant to the Regulatory Flexibility Act of 1980, as amended by the Small Business Regulatory Enforcement Fairness Act of 1996 (5 U.S.C. 601-612). Copies of the IRFA and FRFA prepared for this action are available from NMFS, Alaska Region (see ADDRESSES).

Each year, NMFS promulgates a rule establishing the harvest specifications pursuant to the adopted harvest strategy. While the harvest specification numbers may change from year to year, the harvest strategy for establishing those numbers does not change. Therefore, the impacts discussed in the FRFA are essentially the same. NMFS considers the annual rulemakings establishing the harvest specification numbers to be a series of closely related rules stemming from the harvest strategy and representing one rule for purposes of the Regulatory Flexibility Act (5 U.S.C. 605(c)). A summary of the FRFA follows.

The action analyzed in the FRFA is the adoption of a harvest strategy to govern the catch of groundfish in the BSAI. The preferred alternative is the status quo harvest strategy in which TACs fall within the range of ABCs recommended by the Council's harvest specification process and TACs recommended by the Council. This action is taken in accordance with the FMP prepared by the Council pursuant to the Magnuson-Stevens Act. Significant issues raised by public comment are addressed in the preamble and not repeated here.

The directly regulated small entities include approximately 810 small CVs, fewer than 20 small CPs, and six CDQ groups. The entities directly regulated by this action are those that harvest groundfish in the EEZ of the BSAI and in parallel fisheries within State waters. These include entities operating CV and CP vessels within the action area, and entities receiving direct allocations of groundfish. CVs and CPs were considered to be small entities if their annual gross receipts from all economic activities, including the revenue of their affiliated operations, totaled $4 million per year or less. Data from 2006 were the most recent available to determine the number of small entities.

Estimates of first wholesale gross revenues for the BSAI non-CDQ and CDQ sectors were used as indices of the potential impacts of the alternative harvest strategies on small entities. Revenues were projected to decline from 2006 levels in 2007 and 2008 under the preferred alternative due to declines in ABCs for economically key groundfish species.

The preferred alternative (Alternative 2) was compared to four other alternatives. These included Alternative 1, which would have set TACs to generate fishing rates equal to the maximum permissible ABC (if the full TAC were harvested), unless the sum of TACs exceeded the BSAI optimum yield, in which case TACs would have been limited to the optimum yield. Alternative 3 would have set TACs to produce fishing rates equal to the most recent five-year average fishing rates. Alternative 4 would have set TACs to equal the lower limit of the BSAI optimum yield range. Alternative 5—the “no action” alternative—would have set TACs equal to zero.

Alternative 2 was chosen instead of alternatives 3, 4, and 5, which produced smaller first wholesale revenue indices for both non-CDQ and CDQ sectors than Alternative 2. Moreover, higher Alternative 1 TACs are associated with maximum permissible ABCs, which may be higher than Alternative 2 TACs, while Alternative 2 TACs are associated with the ABCs that have been recommended to the Council, by the Plan Team, and the SSC, and more fully consider other potential biological issues. For these reasons, Alternative 2 is the preferred alternative.

This action does not modify recordkeeping or reporting requirements, or duplicate, overlap, or conflict with any federal rules.

Harvests are controlled by the enforcement of total allowable catch (TAC) limits, and prohibited species catch (PSC) limits, apportionments of those limits among seasons and areas, and allocations of the limits among fishing fleets. TAC seasonal apportionments and allocations are specified by regulations at 50 CFR part 679.

There are no significant alternatives to the proposed rule that accomplish the stated objectives, are consistent with applicable statutes, and that would minimize the economic impact of the proposed rule on small entities.

Adverse impacts on marine mammals resulting from fishing activities conducted under these harvest specifications are discussed in the Final EIS (see ADDRESSES).

Pursuant to 5 U.S.C. 553(d)(3), the Assistant Administrator for Fisheries, NOAA, finds good cause to waive the 30-day delay in effectiveness for this rule. Plan Team review occurred in November 2009, and Council consideration and recommendations occurred in December 2009. Accordingly, NMFS review could not begin until January 2010. For all fisheries not currently closed because the TACs established under the 2009 and 2010 final harvest specifications (74 FR 7359, February 17, 2009) were not reached, the possibility exists that they would be closed prior to the expiration of a 30-day delayed effectiveness period, if implemented, because their TACs could be reached. Certain fisheries, such as those for pollock, Pacific cod, and Atka mackerel are intensive, fast-paced fisheries. Other fisheries, such as those for flatfish, rockfish, and “other species,” are critical as directed fisheries and as incidental catch in other fisheries. U.S. fishing vessels have demonstrated the capacity to catch the TAC allocations in these fisheries. Any delay in allocating the final TACs in these fisheries would cause confusion to the industry and potential economic harm through unnecessary discards. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace.

In fisheries subject to declining sideboards, a failure to implement the updated sideboards before initial season's end could preclude the intended economic protection to the non-sideboarded sectors. Conversely, in fisheries with increasing sideboards, economic benefit could be precluded to the sideboarded sectors.

If the final harvest specifications are not effective by March 6, 2010, which is the start of the 2010 Pacific halibut season as specified by the IPHC, the hook-and-line sablefish fishery will not begin concurrently with the Pacific halibut season. This would result in confusion for the industry and economic harm from unnecessary discard of sablefish that are caught along with Pacific halibut as both hook-and-line sablefish and Pacific halibut are managed under the same IFQ program. Immediate effectiveness of the final 2010 and 2011 harvest specifications will allow the sablefish IFQ fishery to begin concurrently with the Pacific halibut IFQ season. Also, the immediate effectiveness of this action is required to provide consistent management and conservation of fishery resources based on the best available scientific information, and to give the fishing industry the earliest possible opportunity to plan its fishing operations.

The preceding consequences of delaying the rule would undermine the rule's intent. Therefore NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the final 2010 and 2011 harvest specifications and prohibited species bycatch allowances for the groundfish fisheries of the BSAI. This action is necessary to establish harvest limits and associated management measures for groundfish during the 2010 and 2011 fishing years and to accomplish the goals and objectives of the FMP. This action affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 9, 2010.
Samuel D. Rauch III,
Deputy Assistant Administrator for Regulatory Programs, National Marine Fisheries Service.

[FR Doc. 2010-5484 Filed 3-11-10; 8:45 am]

BILLING CODE 3510-22-P